DEPARTMENT OF ENERGY

Federal Energy Regulatory Commission

Combined Notice of Filings #1

June 15, 2009.

Take notice that the Commission received the following electric corporate filings:

Docket Numbers: EC08-40-001.

Applicants: Puget Energy, Inc.; Puget Holdings LLC; Macquarie Infrastructure Partners; Macquarie-FSS Infrastructure Trust; Macquarie Capital Group Limited; Canada Pension Plan Investment Board; British Columbia Investment Management Co; Alberta Investment Management

Description: Supplemental Information of Puget Holdings LLC in Response to the Commission's April 17, 2008 Order.

Filed Date: 06/11/2009.

Accession Number: 20090611-5129.

Comment Date: 5 p.m. Eastern Time on Thursday, July 2, 2009.

Take notice that the Commission received the following exempt wholesale generator filings:

Docket Numbers: EG09-51-000.

Applicants: Northern Colorado Wind Energy, LLC.

Description: Northern Colorado Wind Energy, LLC Notice of Self-Certification of Exempt Wholesale Generator Status.

Filed Date: 06/12/2009

Accession Number: 20090612-5136.

Comment Date: 5 p.m. Eastern Time on Monday, July 6, 2009.

Take notice that the Commission received the following electric rate filings:

Docket Numbers: ER96-1361-015; ER98-4138-011; ER99-2781-013; ER98-3096-017; ER01-202-010; ER00-1770-021; ER02-453-012; ER04-472-009; ER05-1054-005; ER07-903-004; ER08-1336-002; ER09-886-002.

Applicants: Atlantic City Electric Co.; Potomac Electric Power Company; Delmarva Power & Light Company; Pepco Power Resources, LLC; Potomac Power Resources, LLC; Conective Energy Supply, Inc.; Conectiv Atlantic Generation, LLC; Conectiv Delmarva Gerneration, Inc.; Conectiv Bethlehem, LLC; Fauquier Landfill Gas, LLC; Eastern Landfill Gas, LLC; Bethlehem Renewable Energy, LLC; Energy Systems North East, LLC; Conectiv Vineland Solar, LLC

Description: Notification of Change in Status of Atlantic City Electric Company.

Filed Date: 06/12/2009

Accession Number: 20090612-5063.

Comment Date: 5 p.m. Eastern Time on Monday, July 6, 2009.

Docket Numbers: ER99-2342-012.

Applicants: Tampa Electric Company.

Description: Tampa Electric Company submits revised tariff page to correctly identify the tariff pursuant to Order 697-A, effective as of 9/18/07.

Filed Date: 06/10/2009.

Accession Number: 20090612-0041.

Comment Date: 5 p.m. Eastern Time on Wednesday, July 1, 2009.

Docket Numbers: ER08-502-001.

Applicants: Linde Energy Services, Inc.

Description: Application for Category 1 Seller Status of Linde Energy Services, Inc.

Filed Date: 06/11/2009.

Accession Number: 20090611-0078.

Comment Date: 5 p.m. Eastern Time on Thursday, July 2, 2009.

Docket Numbers: ER09-938-000.

Applicants: Central Maine Power Company.

Description: Central Maine Power Company's Response to Request for Information.

Filed Date: 06/09/2009.

Accession Number: 20090609-5001.

Comment Date: 5 p.m. Eastern Time on Tuesday, June 30, 2009.

Docket Numbers: ER09-1020-001.

Applicants: Panoche Energy Center, LLC.

Description: Panoche Energy Centerm, LLC submits a revised Appendix B of the Market-Based Rate Authority and Generation Assets listings.

Filed Date: 06/11/2009.

Accession Number: 20090612-0018.

Comment Date: 5 p.m. Eastern Time on Thursday, July 2, 2009.

Docket Numbers: ER09-1075-003.

Applicants: Falcon Energy LLC.

Description: Amended, Revised and Restated App for Market- Based Rate Authorization and Request for waivers and blanket authorizations and request for expedited treatment of Falcon Energy, LLC.

Filed Date: 06/10/2009.

Accession Number: 20090611-0083.

Comment Date: 5 p.m. Eastern Time on Wednesday, July 01, 2009.

Docket Numbers: ER09-1121-001.

Applicants: PJM Interconnection L.L.C.

Description: PJM Interconnection, LLC submits Substitute Sixth Revised Sheet 219 et al to Third Revised Rate Schedule FERC No 24.

Filed Date: 06/10/2009.

Accession Number: 20090611-0082.

Comment Date: 5 p.m. Eastern Time on Wednesday, July 1, 2009.

Docket Numbers: ER09-1232-001.

Applicants: Holland Energy, LLC.

Description: Holland Energy, LLC submits Substitute Third Revised Sheet 2 et al to its FERC Electric Tariff, Original Volume 1 to change effective date from 5/28/09 to 5/30/09.

Filed Date: 06/10/2009.

Accession Number: 20090611-0081.

Comment Date: 5 p.m. Eastern Time on Wednesday, July 1, 2009.

Docket Numbers: ER09-1266-000.

Applicants: North Western Energy.

Description: NorthWestern Corporation submits Second Revised Sheet 25 and 26 to Rate Schedule FERC 188 et al.

Filed Date: 05/29/2009.

Accession Number: 20090605-0067.

Comment Date: 5 p.m. Eastern Time on Friday, June 19, 2009.

Docket Numbers: ER09-1283-000.

Applicants: Energy Cooperative of Pennsylvania, Inc.

Description: The Energy Cooperative of Pennsylvania, Inc submits FERC Electric Tariff, Original Volume 1.

Filed Date: 06/12/2009.

Accession Number: 20090615-0014.

Comment Date: 5 p.m. Eastern Time on Monday, July 6, 2009.

Docket Numbers: ER09-1284-000.

Applicants: Rugby Wind, LLC.

Description: Rugby Wind LLC submits application requesting acceptance of FERC Electric Tariff, Original Volume No 1 effective 8/11/09 et al.

Filed Date: 06/12/2009.

Accession Number: 20090615-0028.

Comment Date: 5 p.m. Eastern Time on Monday, July 6, 2009.

Docket Numbers: ER09-1285-000.

Applicants: Streator-Cayuga Ridge Wind Power, LLC.

Description: Application of Streator-Cayuga Ridge Wind Power LLC for order accepting initial tariff and granting blanket approvals, including blanket approval under 18 CFR Part 34 for all future issuances of securities and assumptions of liabilities.

Filed Date: 06/12/2009.

Accession Number: 20090615-0027.

Comment Date: 5 p.m. Eastern Time on Monday, July 6, 2009.

Docket Numbers: ER09-1286-000.

Applicants: Elizabethtown Energy, LLC.

Description: Elizabethtown Energy, LLC submits Application for Acceptance of Initial Tariff et al.

Filed Date: 06/10/2009.

Accession Number: 20090611-0080.

Comment Date: 5 p.m. Eastern Time on Wednesday, July 1, 2009.

Docket Numbers: ER09-1287-000.

Applicants: Lumberton Energy, LLC.

Description: Lumberton Energy, LLC submits Application for Acceptance of Initial Tariff, Blanket Authority, Request for Expedited Consideration, and Waiver of the Prior Notice Requirement.

Filed Date: 06/10/2009.

Accession Number: 20090611-0079.

Comment Date: 5 p.m. Eastern Time on Wednesday, July 1, 2009.

Docket Numbers: ER09-1295-000.

Applicants: El Paso Electric Company.

Description: El Paso Electric Company Request for Waiver Authorization Pursuant to Section 205.

Filed Date: 06/12/2009.

Accession Number: 20090612-5047.

Comment Date: 5 p.m. Eastern Time on Monday, July 6, 2009.

Docket Numbers: ER09-1292-000.

Applicants: Black Hills Power, Inc.

Description: Black Hills Power, Inc submits a revised version of Schedule 2 to the Joint Open Access Transmission Tariff of the Common Use System, to be effective 6/12/09.

Filed Date: 06/11/2009.

Accession Number: 20090612-0016.

Comment Date: 5 p.m. Eastern Time on Thursday, July 2, 2009.

Docket Numbers: ER09-1293-000.

Applicants: Southern California Edison Company.

Description: Southern California Edison Company submits revised sheets to the Amended and Restated Coolwater Generating Station Radial Lines Agreement with Reliant Energy Coolwater, Inc.

Filed Date: 06/11/2009.

Accession Number: 20090612-0017.

Comment Date: 5 p.m. Eastern Time on Thursday, July 2, 2009.

Docket Numbers: ER09-1294-000.

Applicants: Wisconsin Electric Power Company.

Description: Wisconsin Electric Power Company submits revisions to the Control Area Operations Coordination Agreement with Wisconsin Power and Light Company, effective July 2009.

Filed Date: 06/11/2009.

Accession Number: 20090612-0019.

Comment Date: 5 p.m. Eastern Time on Thursday, July 2, 2009.

Docket Numbers: ER09-1296-000.

Applicants: Westar Energy, Inc.

Description: Westar Energy submits Original Sheet 1 et al. to Rate Schedule FERC 322.

Filed Date: 06/11/2009.

Accession Number: 20090615-0015.

Comment Date: 5 p.m. Eastern Time on Thursday, July 2, 2009.

Docket Numbers: ER09-1298-000.

Applicants: Xcel Energy Services Inc.

Description: Xcel Energy Services, Inc. submits Notice of Termination of their Market Based Rate Tariff, FERC Electric Tariff, First Revised Volume 1.

Filed Date: 06/12/2009.

Accession Number: 20090615-0016.

Comment Date: 5 p.m. Eastern Time on Monday, July 6, 2009.

Docket Numbers: ER09-1299-000.

Applicants: Idaho Power Company.

Description: Idaho Power Co. submits an amended sheet to the Restated Transmission Service Agreement with PacifiCorp.

Filed Date: 06/12/2009.

Accession Number: 20090615-0029.

Comment Date: 5 p.m. Eastern Time on Monday, July 6, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-14782 Filed 6-23-09; 8:45 am]

BILLING CODE 6717-01-P